DEPARTMENT OF DEFENSE

Office of the Secretary

[Transmittal Nos. 13-63]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-63 with attached transmittal and policy justification.

Dated: December 11, 2013.
Aaron Siegel,
Alternate OSD Federal Register Liaison Officer, Department of Defense.

BILLING CODE 5001-06-P

BILLING CODE 5001-06-C

Transmittal No. 13-63

Notice of Proposed Issuance of Letter of Offer Pursuant to Section 36(b)(1) of the Arms Export Control Act, as amended

(i) Prospective Purchaser: Switzerland

(ii) Total Estimated Value:

Major Defense Equipment * | $ 0.0 million
Other | $ 200.0 million
TOTAL | $ 200.0 million

(iii) Description and Quantity or Quantities of Articles or Services under Consideration for Purchase: follow-on support for Switzerland's F/A-18 Hornet Upgrade Program to include: participation in the F/A-18 Engine Component Improvement Program (CIP), spare and repair parts, system integration and testing, classified and unclassified publications and technical documentation, flight testing, support and test equipment, transportation, personnel training and training equipment, software development, U.S. Government and contractor technical and logistics support services, and other related elements of logistics support.

(iv) Military Department: Navy (GAX)

(v) Prior Related Cases:

FMS case SAI-$1.7B—8Jul93

FMS case LAC-$283M—18Jul00

FMS case JAE-$27M—18Jul00

FMS case GAL-$59M—18Jun01

FMS case LAJ-$22M—8Mar07

FMS case GAU-$45M—25Jul08

FMS case LAL-$293M—5Jan09

(vi) Sales Commission, Fee, etc., Paid, Offered, or Agreed to be Paid: None

(vii) Sensitivity of Technology Contained in the Defense Article or Defense Services Proposed to be Sold: See Annex attached.

(viii) Date Report Delivered to Congress: December 4, 2013

* as defined in Section 47(6) of the Arms Export Control Act.

POLICY JUSTIFICATION

Switzerland—F/A-18 Hornet Follow-On Support

The Government of Switzerland has requested a possible sale of follow-on support for Switzerland's F/A-18 Hornet Upgrade Program to include: participation in the F/A-18 Engine Component Improvement Program (CIP), spare and repair parts, system integration and testing, classified and unclassified publications and technical documentation, flight testing, support and test equipment, transportation, personnel training and training equipment, software development, U.S. Government and contractor technical and logistics support services, and other related elements of logistics support. The estimated cost is $200 million.

The proposed sale will contribute to the foreign policy and national security of the United States by helping to improve the security of a friendly country which has been, and continues to be, an important force for political stability and economic progress in Europe.

The proposed sale of this follow on support will allow the Swiss Air Force to extend the useful life of its F/A-18 fighter aircraft and enhance their survivability. The defense articles and services will be used to support the current Switzerland F/A-18 Hornet Upgrade 25 program and future upgrade programs. The Swiss Air Force needs this support to keep pace with technology advances in sensors, weaponry, and communications.

The proposed sale of this equipment and support will not alter the basic military balance in the region.

The principal contractors will be Excelis Inc. in Clifton, New Jersey; Northrop Grumman Electronic Systems in Linthicum, Maryland; The Boeing Company in St. Louis, Missouri; General Electric Aircraft Engines in Lynn, Massachusetts; General Dynamics Information Technology in Wildewood, Maryland; Wyle Laboratories in Lexington Park, Maryland; MacKee, Inc. in Philadelphia, Pennsylvania; and Zenetex in California, Maryland. There are no offset agreements proposed in connection with this potential sale.

Implementation of this proposed sale will not require the assignment of any additional U.S. Government or contractor representative's in-country. However, multiple trips to Switzerland involving U.S. Government and contractor representatives will be required for technical reviews/support, program management, and training.

There will be no adverse impact on U.S. defense readiness as a result of this proposed sale.

[FR Doc. 2013-29791 Filed 12-13-13; 8:45 am]

BILLING CODE 5001-06-P